DEPARTMENT OF THE INTERIOR

National Park Service

National Register of Historic Places; Notification of Pending Nominations

Nominations for the following properties being considered for listing in the National Register were received by the National Park Service before April 13, 2002. Pursuant to § 60.13 of 36 CFR part 60 written comments concerning the significance of these properties under the National Register criteria for evaluation may be forwarded by United States Postal Service, to the National Register, National Park Service, 1849 C St. NW., NC400, Washington, DC 20240; by all other carriers, National Register of Historic Places, National Park Service, 800 N. Capitol St. NW., Suite 400, Washington, DC 20002; or by fax, 202-343-1836. Written or faxed comments should be submitted by May 9, 2002.

Carol D. Shull,
Keeper of the National Register of Historic Places.

Alaska

Nome Borough-Census Area, Bureau of Indian Affairs Unalakleet School, Unalakleet Native Reservation, Unalakleet, 02000536

California

Del Norte County

BROTHER JONATHAN (Shipwreck Site), About 4.5 mi. W of Pt. St. George, Crescent City, 02000535

San Bernardino County

El Garces, 950 Front St., Needles, 02000537

Colorado

Routt County

Routt County National Bank Building, 802-806 Lincoln Ave., Steamboat Springs, 02000538

Georgia

Fulton County

Southern Railway North Avenue Yards Historic District, 539 John St. NW, Atlanta, 02000539

Laurens County

Dublin Commercial Historic District, Roughly centered on Jackson Ave. and Lawrence St., Dublin, 02000540

Illinois

Cook County

Wooden Alley, 1535 N bet. Astor and State Sts., Chicago, 02000543

Henry County

Music Pavilion, 1208 5th St., Orion, 02000544

Kane County

Elgin Tower Building, 100 E. Chicago St., Elgin, 02000542

Iowa

Polk County

Fleming Building, 218 6th Ave., Des Moines, 02000541

Kansas

Reno County

Soldiers and Sailors Memorial, First Ave. and Walnut St., Hutchinson, 02000557

Sedgwick County

Gelbach House, 1721 Park Place, Wichita, 02000545

Wyandotte County

Quindaro Townsite, Address Restricted, Kansas City, 02000547

Massachusetts

Middlesex County

Goodnow Library, 21 Concord Rd., Sudbury, 02000549

Suffolk County

Bennington Street Burying Ground, Bennington St., bet. Swift and Harmony Sts., Boston, 02000548

Montana

Park County

North Entrance Road Historic District, (Yellowstone National Park MPS) Yellowstone National Park, Yellowstone National Park, 02000529

New York

Delaware County

New Kingston Presbyterian Church, CR 6, New Kingston, 02000554

Erie County

Williamsville Christian Church, 5658 Main St., Williamsville, 02000546

New York County

Building at 19 Rector St., 19 Rector St., 88 Greenwich St., New York, 02000551

Otsego County

Oneonta Theatre, 47 Chestnut St., Oneonta, 02000555

Warren County

CADET (Shipwreck), Address Restricted, Bolton, 02000553

Westchester County

Philipsburgh Building, 2-8 Hudson St., Yonkers, 02000552

Ohio

Cuyahoga County

Harvard School, 6900 Harvard Ave., Cleveland, 02000550

Pennsylvania

Allegheny County

Fulton Building, 107 Sixth St., Pittsburgh, 02000556

South Carolina

Aiken County

Warrenville Elementary School, 115 Timmerman St., Warrenville, 02000560

Hampton County

Stoney Creek Independent Presbyterian Chapel of Prince William Parish, McPhersonville, McPhersonville, 02000559

Horry County

Socastee Historic District, SC 544, 0.5 mi. N of Indtracoastal Waterway, Socastee, 02000558

Texas

Hays County

Kyle City Hall, 109 Burleson Rd., Kyle, 02000528

Winters—Wimberley House, 14070 Ranch Road 12, Wimberley, 02000527

Virginia

Loudoun County

Leesburg Historic District (Boundary Increase), Roughly bounded by North, Union Sts., Morven Park Rd., and Harrison St., Leesburg, 02000531

Louisa County

Harris—Poindexter House and Store, 81 Tavern Rd., Mineral, 02000534

Mecklenburg County

Oakley, 10,000 Corbin Ln., Spotsylvania, 02000533

Norfolk Independent city Colonial Place, Roughly bounded by the Lafayette R., Knitting Mill Creek, East Haven Creek and 38th St., Norfolk, 02000532

Wyoming

Park County

North Entrance Road Historic District, (Yellowstone National Park MPS) Yellowstone National Park, Yellowstone National Park, 02000530

[FR Doc. 02-10026 Filed 4-23-02; 8:45 am]

BILLING CODE 4310-70-P